DEPARTMENT OF THE INTERIOR

Bureau of Land Management

[NM-106385733]

Notice of Proposed Withdrawal and Public Meeting, Upper Pecos River Watershed Protection Area Withdrawal, New Mexico

AGENCY: Bureau of Land Management, Interior.

ACTION: Notice of proposed withdrawal.

SUMMARY: On behalf of the Bureau of Land Management (BLM) and the U.S. Department of Agriculture, Forest Service (USFS), the Secretary of the Interior proposes to withdraw 163,483 acres of National Forest System lands and 1,327.16 acres of public lands from location and entry under the United States mining laws, and leasing under the mineral and geothermal leasing laws, subject to valid existing rights. The lands would remain open to disposals under the mineral materials laws.

DATES: Comments must be received by the BLM by March 17, 2025. A public meeting on the proposed withdrawal will be held February 26, 2025, from 5 p.m. to 7:30 p.m. at the Village of Pecos Conference Room, 92 South Main St., Pecos, NM 87552.

ADDRESSES: Comments should be sent to State Director, Bureau of Land Management, New Mexico State Office, 301 Dinosaur Trail, Santa Fe, New Mexico 87508. Information regarding the proposed withdrawal will be available at the BLM New Mexico State Office and at the Santa Fe National Forest Supervisor's Office, 11 Forest Lane, Santa Fe, New Mexico 87508.

FOR FURTHER INFORMATION CONTACT: Jillian Aragon, Project Manager, BLM New Mexico State Office by email at jgaragon@blm.gov or Julian Madrid, Santa Fe National Forest by email at julian.madrid@usda.gov. Individuals in the United States who are deaf, deafblind, hard of hearing, or have a speech disability may dial 711 (TTY, TDD, or TeleBraille) to access telecommunications relay services for contacting Ms. Aragon. Individuals outside the United States should use the relay services offered within their country to make international calls to the point-of-contact in the United States.

SUPPLEMENTARY INFORMATION: The withdrawal is proposed for a 20-year term to protect the Upper Pecos River watershed area for its water and air quality, cultural resources, scenic integrity, critical fish and wildlife habitat, and recreational values. This notice segregates the land for 2 years from location and entry under the United States mining laws, and leasing under the mineral and geothermal leasing laws, subject to valid existing rights, and initiates a 90-day public comment period on the proposed withdrawal. The USFS and the BLM will host public meetings to provide information on the withdrawal application, as specified previously (see DATES).

The BLM and the USFS are jointly seeking this withdrawal. Their petition/application requests the Secretary of the Interior to withdraw the following Federal lands and interests in lands, and all non-Federal lands within the boundaries of the withdrawal application area that are subsequently acquired by the Federal Government, from location and entry under the United States mining laws, and leasing under the mineral and geothermal leasing laws, subject to valid existing rights.

National Forest System Lands:

New Mexico Principal Meridian, New Mexico

T. 16 N., R. 11 E.,

Secs. 1 and 2;

Sec. 3;

Sec. 4 lots 3 thru 12 and lot 14, SW¼NW¼, NW¼SW¼, NE¼SE¼, and SW¼SE¼;

Sec. 5 lots 5 thru 7 and lots 10 thru 20;

Sec. 6 lot 23;

Sec. 7 lots 5 and 12;

Sec. 8 lots 1 thru 4, lots 6 thru 10, and lots 15 and 16;

Sec. 9, lots 2 thru 8, W½NE¼, S½NW¼, SW¼, and E½SE¼;

Sec. 10, lots 3 thru 6, E½, E½NW¼, and S½SW¼;

Secs. 11 thru 13;

Sec. 14, lots 1 and 2, N½, W½SW¼, and SE¼;

Secs. 15 and 16;

Sec. 21, lots 1 thru 3 and lots 6 thru 9;

Sec. 24 N½ and E½SE¼;

Sec. 25 lots 3 thru 6;

Sec. 26 lot 4;

Sec. 35 lots 1 thru 5, W½NE¼, E½NW¼, NE¼NE¼SW¼, W½SE¼, and Parcel A.

T. 17 N., R. 11 E.,

Secs. 1 thru 3;

Sec. 4, E½NE¼, E½SW¼, and SE¼;

Sec. 8, SE¼NE¼ and E½SE¼;

Sec. 9, E½, NE¼NW¼, S½NW¼, and SW¼;

Secs. 10 thru 16;

Sec. 17, E½ and SE¼SW¼;

Sec. 20, E½ and NE¼SW¼;

Secs. 21 thru 24;

Sec. 25, excepting HES 293A and HES 293B;

Secs. 26 thru 28;

Sec. 29, E½, NE¼NW¼, S½NW¼, and SW¼;

Sec. 30, NE¼SE¼;

Sec. 32, E½, E½NW¼, and E½SW¼;

Sec. 33, lots 1 and 2, N½, SW¼, and N½SE¼;

Secs. 34 thru 36.

T. 18 N., R. 11 E., partially unsurveyed,

All those lands lying southeasterly of the Pecos Wilderness, being the westerly boundary of the Upper Pecos Watershed Withdrawal Application Area, comprised of approximately 4,693 acres.

T. 15 N., R. 12 E.,

Secs. 1 and 2;

Secs. 11 thru 13;

Secs. 23 thru 26;

Secs. 35 and 36.

T. 16 N., R. 12 E.,

Sec. 1, lot 4, SW¼NW¼, and SW¼;

Sec. 2, lots 1 thru 4, S½NE¼, S½NW¼, SW¼, and N½SE¼;

Sec. 3, lots 1 and 2, S½NE¼, SE¼NW¼, and S½;

Sec. 4, lots 1thru 3, S½NE¼, SE¼NW¼, E½SW¼, and SE¼;

Sec. 5, lots 2 thru 4 and lots 6 and 7, S½NE¼, SE¼NW¼, S½, and NM 3492;

Sec. 6, lots 3 thru 5, E½SW¼, and SE¼;

Sec. 7, lots 1 thru 4, E½NE¼, E½SW¼, and SE¼;

Sec. 8;

Sec. 9, lots 1 thru 3, lots 5 thru 7, lots 8 thru 10, and lots 12 thru 14;

Sec. 10;

Sec. 11, SE¼NE¼, N½NW¼, SW¼NW¼, NW¼SW¼, S½SW¼, NE¼SE¼, and S½SE¼;

Sec. 12, W½NE¼, NW¼, and S½;

Sec. 13, N½ and SW¼;

Sec. 14;

Sec. 15, lots 1 thru 13;

Sec. 16, lots 4 thru 7;

Sec. 17, lots 3 thru 17;

Sec. 18, lot 1, W½NE¼, and NE¼NW¼;

Sec. 19, lot 1, E½NE¼, NE¼SE¼, and excepting M.S. 1959;

Sec. 20, lots 5 thru 16;

Sec. 21, lot 5;

Secs. 22 and 23;

Sec. 24, E½NE¼ and W½;

Sec. 25, W½NW¼NE¼, W½SW¼NE¼, and W½;

Secs. 26 thru 36;

T. 17 N., R. 12 E.,

Sec. 1, lots 9 thru 17, SE¼NW¼, and W½SW¼;

Sec. 2, lots 5 thru 9, lots 12 thru 15, and lot 17;

Sec. 3;

Sec. 4, lots 5 thru 8;

Secs. 5 and 6;

Sec. 7, lots 5 thru 10, lot 12, lots 15 thru 18, and Tract 38;

Sec. 8, lots 1 thru 4, SW¼NE¼, NW¼, and NW¼SW¼;

Sec. 9, lots 1 thru 3, lots 5 thru 11, and lot 13;

Sec. 10, lots 1 thru 11;

Sec. 11, lots 1 thru 4;

Sec. 12, lots 1 thru 14;

Sec. 13, lots 1 thru 10;

Sec. 14, lots 1 thru 6;

Sec. 15, lots 1 and 2;

Sec. 16;

Sec. 17 lots 1 thru 12;

Sec. 18, lots 5, 9, 13 and 14, W½SW¼, SE¼SW¼, and N½SE¼:

Sec. 19, lots 5 thru 15;

Sec. 20, lots 1 and 4 and Patent No. 058030;

Sec. 21, lots 1 thru 3;

Sec. 22, lots 1 thru 3;

Sec. 23, lots 1 thru 5;

Sec. 24, lots 1 thru 6, E½SW¼, and SE¼;

Sec. 25, NE¼, NE¼NW¼, S½NW¼, and S½;

Sec. 26, lots 1 thru 4, S½NE¼, S½NW¼, and SW¼;

Secs. 27 and 28;

Sec. 29, lots 1 and 2 and Ser Patent No. 103230;

Secs. 30, lots 5 thru 11;

Sec. 31;

Sec. 32, lots 1 thru 11;

Sec. 33, lots 1 thru 8;

Sec. 34, lots 1 thru 4 and SE¼;

Sec. 35, lots 1 thru 3, NE¼, W½NW¼, and SW¼;

Sec. 36, lots 1 thru 15.

T. 18 N., R. 12 E.,

Sec. 1;

Sec. 2, lots 5 thru 8;

Sec. 3, lots 5 and 6;

Sec. 10, lots 3 and 4, SW¼NE¼, W½, and SE¼;

Sec. 11, lots 1 thru 7, E½NE¼, SW¼SW¼, E½SE¼, and SW¼SE¼;

Secs. 12 thru 14;

Sec. 15, lots 1 thru 5, E½NE¼, NW¼NE¼, and W½;

Sec. 19;

Sec. 20, lot 1, N½, SW¼, N½SE¼, and SE1/SE¼;

Sec. 21, lot 1, N½, SW¼, NE¼SE¼, and W½SE¼;

Sec. 22, lots 3 thru 12, NW¼, and SE¼SE¼;

Sec. 23, excepting Tract 42;

Secs. 24 and 25;

Sec. 26, excepting M.S. 1984;

Sec. 27, lots 11 thru 17, E½NE¼ excepting M.S. 1984, and E½SE¼ excepting M.S.1984;

Sec. 28, lots 4 thru 7, NW¼NE¼, and W½;

Sec. 29, lots 1 thru 7, W½SE¼, and W½;

Secs. 30 thru 32;

Sec. 33, lots 1 thru 11, NW¼, and NW¼SW¼;

Sec. 34, excepting Tract 47;

Sec. 35, excepting Tract 48;

Sec. 36, excepting Tract 48.

T. 19 N., R. 12 E.,

Sec. 25, excepting HES 297A, HES 297B, and Patent No. 910127;

Sec. 26, E½, E½NW¼, E½NE¼NW¼NW¼, E½SE¼NW¼NW¼, E½NE¼SW¼NW¼, S½SW¼SW¼NW¼, NE¼SE¼SW¼NW¼, S½SE¼SW¼NW¼, and SW¼;

Sec. 27, W½NE¼, W½, and W½SE¼;

Sec. 33;

Sec. 34, NE¼NW¼NE¼, W½NW¼NE¼, W½SW¼NE¼, N½SE¼NW¼NE¼, W½NW¼SE¼, and W½;

Sec. 35, lots 1 thru 11 and SE¼;

Sec. 36.

T. 15 N., R. 13 E.,

Secs. 1 thru 4;

Sec. 5, lots 1, 8, 9, and lots 13 thru 16 and E½SW¼;

Sec. 6, lots 4 thru 7 and lots 12 thru 14;

Sec. 8, lots 1 and 2, lots 4 thru 7, lots 10 and 13, NW¼NE¼, NE¼NW¼, and S½SW¼;

Sec. 9, lots 1 thru 4, E½, and E½SW¼;

Sec. 10, E½, W½NW¼, and W½SW¼;

Sec. 11;

Sec. 12, excepting HES No. 300;

Secs. 13 and 14;

Sec. 15, E½NE¼, W½NW¼, and SW¼;

Sec. 16, E½, E½NW¼, and E½SW¼;

Sec. 17, lot 2, SW¼NE¼, W½, and E½SE¼;

Sec. 18, lots 1 thru 4, S½NE¼, E½NW¼, E½SW¼, and SE¼;

Sec. 19;

Sec. 20, W½NE¼ and W½;

Sec. 21, E½, E½NW¼, NE¼SW¼, and SW¼SW¼;

Sec. 22, W½NE¼, W½, and SE¼;

Sec. 23, E½, E½NW¼, and SW¼;

Sec. 24, lots 1 thru 4, NE¼, W½, and NW¼SE¼;

Secs. 25 thru 27;

Sec. 28, E½;

Secs. 29 thru 31;

Sec. 33, lots 1, 4 and 5 and E½NE¼;

Sec. 34, lot 1, E½, NW¼, E½SW¼, and NW¼SW¼;

Secs. 35 and 36.

T. 16 N., R.13 E.,

Sec. 1;

Sec. 2, lots 5 thru 12, SE¼NW¼, and SW¼;

Sec. 3, lots 1 and 2, S½NE¼, SE¼NW¼, E½SW¼, and SE¼;

Sec. 4, lots 1 thru 4;

Sec. 5, lots 1 and 4, SW¼NW¼, and NW¼SW¼;

Sec. 6, lots 1 thru 5, S½NE¼, SE¼NW¼, and SE¼;

Sec. 10, lots 1 thru 4, NE¼, and E½NW¼;

Secs. 11 and 12;

Sec. 13, N½ and SW¼;

Sec. 14;

Sec. 15, E½;

Sec. 16, S½;

Sec. 17, SW¼;

Sec. 18, lots 1 and 2, W½NE¼NW¼, W½SE¼NW¼, and SE¼;

Sec. 19, excepting Patent No. 1078570;

Sec. 20, NE¼, W½, N½SE¼, and SW¼SE¼;

Sec. 21, W½ and SE¼;

Secs. 22 thru 25;

Sec. 26, lots 1 and 2, N½NE¼, SE¼NE¼, N½NW¼, SW¼NW¼, W½SW¼, and N½SE¼;

Sec. 27;

Sec. 28, NW¼NE¼, E½NW¼, E½SW¼, and E½SE¼;

Sec. 29, W½NE¼, W½, and NW¼SE¼;

Sec. 30, lots 1 and 4, E½, NE¼NW¼, and SE¼SW¼;

Sec. 31, lots 3 and 7;

Sec. 32, lots 3 thru 8, NW¼, and N½SW¼;

Sec. 33;

Sec. 34, excepting Patent No. 479146;

Secs. 35 and 36.

T. 17 N., R. 13 E.,

Sec. 3, lots 2 thru 4, SW¼NE¼, S½NW¼, and SW¼;

Secs. 4 thru 6;

Sec. 7, lots 5 thru 20 and NE¼;

Sec. 8, lots 1 and 2, N½, E½SW¼, and SE¼;

Sec. 9;

Sec. 10, S½NE¼, NW¼NE¼, W½, and SE¼;

Sec. 11, S½NW¼ and SW¼;

Sec. 13, W½SW¼;

Sec. 14, W½NE¼, SE¼NE¼, W½ excepting HES 327, and SE¼;

Sec. 15, excepting HES 327;

Secs. 16 and 17;

Sec. 18, lots 5 thru 17, NE¼NE¼, S½NE¼, and SE¼;

Sec. 19, lots 5 thru 19, W½NE¼, W½SE¼, and SE¼SE¼;

Sec. 20, lots 1 thru 7, E½NE¼, NE¼SW¼, S½SW¼, and SE¼;

Sec. 21;

Sec. 22, NE¼ excepting HES 327, W½, and SE¼ excepting Tract 42;

Sec. 23, lots 1 thru 6, N½NE¼, SE¼NE¼, N½NW¼, SW¼NW¼, NE¼SE¼, and S½SE¼;

Sec. 24, NW¼NW¼, S½NW¼, and SW¼;

Sec. 25, W½NE¼, W½, W½SE¼, and W½SE¼SE¼;

Sec. 26, lots 1 thru 4, E½, SE¼NW¼, and E½SW¼;

Sec. 27, lots 1 thru 7, W½NW¼, SW¼, and W½SE¼;

Sec. 28;

Sec. 29, N½, E½NW¼SW¼, E½SE¼, E½NW¼SW¼SE¼, NW¼NW¼SE¼,

E½SW¼NW¼SE¼, NW¼SW¼NW¼SE¼, and E½SW¼SE¼;

Secs. 30 and 31;

Sec. 32, E½NE¼, E½NW¼NE¼, NE¼NW¼SW¼NE¼, S½NW¼SW¼NE¼, SW¼SW¼NE¼, E½SE¼NE¼, and S½;

Sec. 33;

Sec. 34, excepting Tract 46;

Sec. 35, lots 1 thru 6, N½, NE¼SW¼, and S½SE¼;

Sec. 36.

T. 18 N., R. 13 E., partially unsurveyed,

Sec. 17;

PB 43, all those lands lying south of Pecos Wilderness;

PB 44;

Sec. 20;

Sec. 21, E½, NE¼NW¼, S½NW¼NW¼, and SW¼;

Sec. 22, W½;

Sec. 27, NW¼ and S½;

Secs. 28 and 29

PB 44 thru 52.

T. 14 N., R. 14 E.,

Sec. 1, lot 2, SW¼NE¼, S½SE¼NE¼, W½, and SE¼;

Secs. 2 thru 4;

Sec. 5, lots 1 thru 4, SE¼NE¼, SE¼NW¼, SE¼SW¼, and NE¼SE¼;

Sec. 12, NE¼, W½, W½NE¼SE¼, W½SE¼, and W½SE¼SE¼.

T. 15 N., R. 14 E.,

Sec. 6, lots 1 thru 15 and SE¼;

Sec. 7, lots 1 thru 9, NE¼, SE¼SW¼, and N½SE¼;

Sec. 18;

Sec. 19, lots 1 thru 4, E½, E½NW¼, and E½SW¼;

Sec. 22;

Sec. 23, SW¼NW¼ and SW¼;

Sec. 36, S½NW¼SW¼, SW¼SW¼, W½SE¼SW¼, and W½SE¼SE¼SW¼.

T. 15 N., R. 14 E., partially unsurveyed,

All those lands lying west of El Barro Peak ridge, being the easterly boundary of the Upper Pecos Watershed Withdrawal Application Area, comprising approximately 11,529 acres.

T. 16 N., R. 14 E.,

Sec. 6, lots 4 thru 6 and SE¼NW¼;

Sec. 7, lots 2 thru 4;

Sec. 18, lots 1 thru 4 and E½SW¼;

Sec. 19;

Sec. 20, W½;

Sec. 29, lots 2 thru 4, lots 7 and 8, N½NW¼, and SW¼;

Secs. 30 and 31;

Sec. 32, W½ and SE¼;

Sec. 33, S½.

T. 14 N., R. 15 E.,

Sec. 6, W½NW¼SW¼ and SW¼SW¼;

Sec. 7, W½NE¼NW¼, NW¼NW¼, and W½SW¼NW¼.

The areas described aggregate 163,483 acres.

Bureau of Land Management:

New Mexico Principal Meridian, New Mexico

T. 14 N., R. 13 E.,

Sec. 1, lots 1 and 2, S½NE¼, and SE¼;

Sec. 3, lots 1 thru 10 and SE¼NE¼;

Sec. 4, lots 1, 6, and 7;

Sec. 12, lots 1, 2, and 4 and SE¼NE¼;

Sec. 13, lots 1 and 2;

Sec. 23, S½NW¼.

T. 14 N., R. 14 E.,

Sec. 7, lots 1 thru 4, E½NW¼, and E½SW¼.

The areas described aggregate 1,327.16 acres, according to the official plats of the surveys of the said lands, on file with the BLM.

The total acreage for the proposed withdrawal is 164,810.16 acres.

A Secretarial Officer has approved the BLM's petition to file the withdrawal application. This approval constitutes the Department's proposal to withdraw the subject lands. The USFS has consented to proposing the withdrawal of lands under its administrative jurisdiction (43 CFR 2310.1-3(e)) and has joined the BLM as withdrawal applicant.

The use of a right-of-way, interagency agreement, or cooperative agreement, or surface management under 43 CFR part 3800, subpart 3809 regulations would not adequately constrain non-discretionary uses and would not provide adequate protection of cultural, recreational, and biological resources, nor the financial investments in public campgrounds and other improvements on these lands.

There are no suitable alternative sites, as the described lands contain resource values that need protection.

Water rights will not be needed to fulfill the purpose of the proposed withdrawal.

For a period of 90 days from the date of publication of this notice, all persons who wish to submit comments, suggestions, or objections in connection with the proposed withdrawal may present their views in writing to the BLM New Mexico State Director at the address listed above (see ADDRESSES).

Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives of officials of organizations or businesses, will be made available for public inspection in their entirety.

For a period until December 16, 2026, subject to valid existing rights, the lands and mineral interests in this notice will be segregated from location and entry under the United States mining laws, and leasing under the mineral and geothermal leasing laws, subject to valid existing rights unless the proposal is canceled, or the withdrawal is approved prior to that date.

Licenses, permits, cooperative agreements, or discretionary land use authorizations of a temporary nature may be allowed with the approval of the authorized officers of the USDA Forest Service or the BLM during the segregation period.

This proposed withdrawal will be processed in accordance with the regulations set forth in 43 CFR part 2300.

(Authority: 43 U.S.C. 1714).

Melanie G. Barnes,
BLM New Mexico State Director.

[FR Doc. 2024-29674 Filed 12-12-24; 4:15 pm]

BILLING CODE 3411-15-P